DEPARTMENT OF ENERGY

Federal Energy Regulatory Commission

[Docket No. CP11-549-000]

DCP Midstream, LP; Notice of Application

Take notice that on September 23, 2011, DCP Midstream, LP (DCP), filed an application pursuant to Section 7(c) of the Natural Gas Act and Part 157 of the Commission's Regulations, for a limited jurisdiction certificate authorizing DCP to construct and operate an eleven-mile, 12-inch diameter pipeline (the LaSalle Residue Line) connecting DCP's new non-jurisdictional natural gas processing facilities (the LaSalle System) with an interstate system, located in Weld County, Colorado. DCP also requests for waivers of regulatory requirements regarding the proposed LaSalle Residue Line. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

DCP is a non-jurisdictional gas gathering company having facilities in Texas, Oklahoma, New Mexico, Louisiana, Colorado, Kansas, Arkansas, and Wyoming. DCP generally operates these facilities to deliver raw gas to processing plants. To address the new development of Niobrara Shale in the Denver-Julesburg Basin (DJ Basin), DCP proposes to construct the LaSalle Residue Line connecting the LaSalle System with an interstate system, Colorado Interstate Gas Company (CIG). The LaSalle Residue Line has a design capacity of 230 MMcf/day and will be used for transportation of natural gas solely on behalf of DCP without payment of any additional charge for the service. DCP does not intend to transport gas through the LaSalle Residue Line for shippers other than DCP. The pipeline will be constructed entirely inside DCP's right of way and costs approximately $12 million.

Any questions regarding this application should be directed to Katie Rice, DCP Midstream, LP, 370 17th Street, Suite 2500, Denver, Colorado 80202. Telephone 303-605-2166, fax 303-605-2226, and e-mail: kerice@dcpmidstream.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper; see 18 CFR 385.2001(a)(1)(iii) and the instructions on the Commission's Web site under the “e-Filing” link. The Commission strongly encourages electronic filings.

Comment Date: October 27, 2011.

Dated: October 6, 2011.
Kimberly D. Bose,
Secretary.

[FR Doc. 2011-26567 Filed 10-13-11; 8:45 am]

BILLING CODE 6717-01-P